DEPARTMENT OF DEFENSE

Department of the Army

[Docket ID USA-2016-HQ-0037]

Submission for OMB Review; Comment Request

ACTION: Notice.

SUMMARY: The Department of Defense has submitted to OMB for clearance, the following proposal for collection of information under the provisions of the Paperwork Reduction Act.

DATES: Consideration will be given to all comments received by March 30, 2017.

FOR FURTHER INFORMATION CONTACT: Fred Licari, 571-372-0493.

SUPPLEMENTARY INFORMATION:

Title, Associated Form and OMB Number: Suppliers Self-Services—SUS; OMB Control Number 0702-0126.

Type of Request: Revision.

Number of Respondents: 2,167.

Responses per Respondent: 12.

Annual Responses: 26,004.

Average Burden per Response: 6 minutes.

Annual Burden Hours: 2,600.

Needs and Uses: The information collection requirement via SUS is necessary to reduce the amount and complexity of required input by vendors that manually enter invoice data into Wide Area Workflow (WAWF) (not those utilizing Electronic Data Interchange (EDI)). By pre-populating fields with accurate and up-to-date contract information, vendors are required to input significantly less data. Additionally, SUS simultaneously performs a front-end validation of submitted data, thus ensuring less manual intervention and fewer interest penalties incurred by the government.

Affected Public: Business or other for-profit.

Frequency: On occasion.

Respondent's Obligation: Voluntary.

OMB Desk Officer: Ms. Jasmeet Seehra.

Comments and recommendations on the proposed information collection should be emailed to Ms. Jasmeet Seehra, DoD Desk Officer, at Oira_submission@omb.eop.gov. Please identify the proposed information collection by DoD Desk Officer and the Docket ID number and title of the information collection.

You may also submit comments and recommendations, identified by Docket ID number and title, by the following method:

• Federal eRulemaking Portal: http://www.regulations.gov. Follow the instructions for submitting comments.

Instructions: All submissions received must include the agency name, Docket ID number and title for this Federal Register document. The general policy for comments and other submissions from members of the public is to make these submissions available for public viewing on the Internet at http://www.regulations.gov as they are received without change, including any personal identifiers or contact information.

DoD Clearance Officer: Mr. Frederick Licari.

Written requests for copies of the information collection proposal should be sent to Mr. Licari at WHS/ESD Directives Division, 4800 Mark Center Drive, East Tower, Suite 03F09, Alexandria, VA 22350-3100.

Dated: February 16, 2017.
Aaron Siegel,
Alternate OSD Federal Register Liaison Officer, Department of Defense.

[FR Doc. 2017-03434 Filed 2-27-17; 8:45 am]

BILLING CODE 5001-06-P